DEPARTMENT OF THE TREASURY

United States Mint

Notification of New Pricing Methodology

ACTION: Notice.

SUMMARY: The United States Mint is implementing a new pricing methodology for its commemorative gold coins to mitigate the effect that fluctuating gold commodity costs has on the pricing of these products. The new pricing methodology is based primarily on the London Fix weekly average (average of the London Fix prices covering the previous Thursday A.M. Fix through the Wednesday A.M. Fix) gold prices, which reflect the cost of the gold bullion that these products contain. As required by law, commemorative coins must be sold at a price equal to the sum of the face value of the coins, the surcharge with respect to such coins, and the cost of designing and issuing the coins (including labor, materials, dies, use of machinery, overhead expenses, marketing, and shipping). This pricing methodology will allow the United States Mint to change the prices of these products as often as weekly so they better reflect the costs of gold for these coins.

DATES: The new pricing methodology, as further explained in the SUPPLEMENTARY INFORMATION section, will go into effect on date of publication.

FOR FURTHER INFORMATION CONTACT: B.B. Craig, Associate Director for Sales and Marketing; United States Mint; 801 Ninth Street, NW.; Washington, DC 20220; or call 202-354-7500.

SUPPLEMENTARY INFORMATION: Pursuant to the authority under 31 U.S.C. 5134(f)(1)(A)(i), and public laws that authorize the Secretary of the Treasury to mint and issue commemorative coins.

Effective date of publication, the United States Mint will commence selling commemorative gold coins at prices established by using the new pricing methodology. Specifically, each Wednesday, the United States Mint will apply the average London Fix for gold (average of the London Fix prices covering the previous Thursday A.M. Fix through the Wednesday A.M. Fix) to the below pricing schedules. Price adjustments as a result of this process, if any, will be effective at 10 a.m. E.T. on the immediately following Thursday.

Dated: August 22, 2011.
Richard A. Peterson,
Deputy Director, United States Mint.

Pricing of Numismatic Commemorative Products Containing .2431 FTO Gold Coins With Surcharge of $35
Average price of gold (dollars) | Commemorative gold proof (dollars) | Commemorative gold uncirculated (dollars)
500.00 to 549.99 | 230.55 | 220.55
550.00 to 599.99 | 242.70 | 232.70
600.00 to 649.99 | 254.85 | 244.85
650.00 to 699.99 | 267.00 | 257.00
700.00 to 749.99 | 279.15 | 269.15
750.00 to 799.99 | 291.30 | 281.30
800.00 to 849.99 | 303.45 | 293.45
850.00 to 899.99 | 315.60 | 305.60
900.00 to 949.99 | 327.75 | 317.75
950.00 to 999.99 | 339.90 | 329.90
1,000.00 to 1,049.99 | 352.05 | 342.05
1,050.00 to 1,099.99 | 364.20 | 354.20
1,100.00 to 1,149.99 | 376.35 | 366.35
1,150.00 to 1,199.99 | 388.50 | 378.50
1,200.00 to 1,249.99 | 400.65 | 390.65
1,250.00 to 1,299.99 | 412.80 | 402.80
1,300.00 to 1,349.99 | 424.95 | 414.95
1,350.00 to 1,399.99 | 437.10 | 427.10
1,400.00 to 1,449.99 | 449.25 | 439.25
1,450.00 to 1,499.99 | 461.40 | 451.40
1,500.00 to 1,549.99 | 473.55 | 463.55
1,550.00 to 1,599.99 | 485.70 | 475.70
1,600.00 to 1,649.99 | 497.85 | 487.85
1,650.00 to 1,699.99 | 510.00 | 500.00
1,700.00 to 1,749.99 | 522.15 | 512.15
1,750.00 to 1,799.99 | 534.30 | 524.30
1,800.00 to 1,849.99 | 546.45 | 536.45
1,850.00 to 1,899.99 | 558.60 | 548.60
1,900.00 to 1,949.99 | 570.75 | 560.75
1,950.00 to 1,999.99 | 582.90 | 572.90
2,000.00 to 2,049.99 | 595.05 | 585.05
2,050.00 to 2,099.99 | 607.20 | 597.20
2,100.00 to 2,149.99 | 619.35 | 609.35
2,150.00 to 2,199.99 | 631.50 | 621.50
2,200.00 to 2,249.99 | 643.65 | 633.65
2,250.00 to 2,299.99 | 655.80 | 645.80
2,300.00 to 2,349.99 | 667.95 | 657.95
2,350.00 to 2,399.99 | 680.10 | 670.10
2,400.00 to 2,449.99 | 692.25 | 682.25
2,450.00 to 2,499.99 | 704.40 | 694.40
2,500.00 to 2,549.99 | 716.55 | 706.55
2,550.00 to 2,599.99 | 728.70 | 718.70
2,600.00 to 2,649.99 | 740.85 | 730.85
2,650.00 to 2,699.99 | 753.00 | 743.00
2,700.00 to 2,749.99 | 765.15 | 755.15
2,750.00 to 2,799.99 | 777.30 | 767.30
2,800.00 to 2,849.99 | 789.45 | 779.45
2,850.00 to 2,899.99 | 801.60 | 791.60
2,900.00 to 2,949.99 | 813.75 | 803.75
2,950.00 to 2,999.99 | 825.90 | 815.90

[FR Doc. 2011-21831 Filed 8-25-11; 8:45 am]

BILLING CODE P